ENVIRONMENTAL PROTECTION AGENCY

[FRL-6960-3]

Supplemental Notice of Proposed Administrative De Minimis Settlement, and Notice of Proposed Second Administrative De Minimis Settlement, Pursuant to Section 122(g) of the Comprehensive Environmental Response, Compensation and Liability Act, and Notice of Public Meeting and Proposed Settlement Pursuant to Section 7003(d) of the Resource Conservation and Recovery Act; In Re: Lenz Oil Services, Inc., Site, Lemont, IL

AGENCY: Environmental Protection Agency.

ACTION: Notice; request for public comment.

SUMMARY: In accordance with section 122(i)(1) of the Comprehensive Environmental Response, Compensation, and Liability Act, as amended (“CERCLA”), and section 7003(d) of the Resource Conservation and Recovery Act, as amended (“RCRA”), the EPA is giving this supplemental notice of a proposed administrative de minimis settlement, and is giving notice of a proposed second administrative de minimis settlement, under section 122(h)(1) of CERCLA and section 7003 of RCRA concerning the Lenz Oil Services, Inc., site (“Site”) in Lemont, Illinois. The United States Department of Justice has approved of these settlements, subject to review and comment by the public as provided by this notice. If the public requests a meeting pursuant to RCRA section 7003(d), EPA will hold a public meeting in the vicinity of the Site to discuss these settlements.

Both of these settlements resolve Environmental Protection Agency (EPA) claims under section 107(a) of CERCLA and section 7003 of RCRA, and a State of Illinois claim under section 22.2a of the Illinois Environmental Protection Act. The supplemental notice to the first settlement resolves claims against 15 parties who timely executed binding certifications of their consent to the settlement. The second settlement resolves claims against 12 parties who timely executed binding certifications of their consent to the second settlement. U.S. EPA identified 6 of these 27 settlers in the October 28, 1998, notice of the original de minimis settlement, but now requires additional public notice due to clarifications to the name of the party or the settling amount. The Supplemental Information Section below identifies the parties executing binding certifications of their consent to these settlements.

The supplemental notice for the first settlement identifies 15 settling parties who will pay a total of $118,840.17 to the Hazardous Substances Superfund, Lenz Oil Services, Inc., Special Account, and a total of $48,462.09, to the State of Illinois for costs incurred relating to past Site response actions. The second settlement identifies 12 parties who will pay a total of $91,701.28 to the Hazardous Substances Superfund, Lenz Oil Services, Inc., Special Account, and a total of $6,787.05, to the State of Illinois for costs incurred relating to past Site response actions.

Each settling party must pay an amount specified for that party in the settlement based on the volume of waste that party contributed to the Site; except as to 2 parties in this notice, who are paying a lesser amount based on an analysis of their ability to pay the settlement. Payments received shall be applied, retained or used to finance the response actions taken or to be taken at or in connection with the Site, including payments for past response costs, future oversight costs and/or other future costs of conducting the response.

The first settlement was modified as specified in an errata sheet to correct certain errors in the settlement documents and to supplement settlement terms relating to federal agency settlers. Consequently, following the public comment period, we are providing each supplemental notice party with an opportunity to ratify the errata changes, or to withdraw from the settlement without penalty.

For 30 days following the date of publication of this notice, and at the public meeting identified above, the Agency will receive written comments relating to the settlement. The Agency will consider all comments received and may modify or withdraw its consent to the settlement if comments received disclose facts or considerations which indicate that the settlement is inappropriate, improper, or inadequate. The Agency's response to any comments received will be available for public inspection at the Lemont Town Hall, 418 Main Street, Lemont, Illinois and at the EPA, Region 5, 7th Floor File Room, 77 West Jackson Boulevard, Chicago, Illinois.

DATES: You must submit comments on or before May 3, 2001.

ADDRESSES: The proposed settlement, including the errata sheet, and additional background information relating to the settlement are available for public inspection at the Lemont Town Hall, 418 Main Street, Lemont, Illinois, and at the EPA, Region 5, 7th Floor File Room, 77 West Jackson Boulevard, Chicago, Illinois. In addition, you may obtain a copy of the proposed settlement from Stuart P. Hersh, Associate Regional Counsel (C-14J), Region V, 77 West Jackson Boulevard, Chicago, Illinois, 60604-3590, or by calling (312) 886-6235. Comments should reference the Lenz Oil Services Inc., Superfund Site, Lemont, Illinois and EPA Docket No. V-W-98-C-440 and should be addressed to Stuart P. Hersh, Associate Regional Counsel (C-14J), Region V, 77 West Jackson Boulevard, Chicago, Illinois, 60604.

SUPPLEMENTARY INFORMATION: The following parties have executed binding certifications of their consent to participate in the first settlement.

Respondents

Avenue Motor Sales; Crosstown Services (n/k/a Laidlaw Transit); Exhaust Works, The; Diller-Rod, Inc.; Jimmy Diesel, Inc.; McHenry Ready-Mix Co.; Oak Park & River Forest High School; Oehler Automotive & Leasing; Sadowski, Jack, consolidated with Lambert Jones; Schaumburg Transportation n/k/a Laidlaw Transit); Silica Sand Transport; Taylor Motor Sales; Tinley Auto Repair; Village of Carpentersville; and Waspi Trucking.

The following parties have executed binding certifications of their consent to participate in the second settlement.

Respondents

Batavia Standard; Bauer Buick; Burren Transfer; Chanute Air Force Base; Community Unit School District 300; Everpure (a/k/a Culligan); J/B Industries; J&S Plastics; Knaack Manufacturing Co.; Montgomery Standard; Reber and Foley Standard; and Vaia Auto Specialists.

The following Respondents from those listed above were also, incorrectly, identified as settlers in the October 28, 1998, public notice to the first settlement.

Respondents

Bauer Buick; Vaia Auto Specialists, Inc.; Crosstown Services (incorrectly listed as Crosstown Service Center); Diller-Rod; Sadowski, Jack (Lambert Jones); and Waspi Trucking.

FOR FURTHER INFORMATION CONTACT: Stuart P. Hersh, Associate Regional Counsel (C-14J), Region V, 77 West Jackson Boulevard, Chicago, Illinois, 60604, or call (312) 353-9484.

Authority: The Comprehensive Environmental Response, Compensation and Liability Act, as amended, 42 U.S.C. 9601-9675, the Resource Conservation and Recovery Act, as amended, 42 U.S.C. 6901-6992, and the Illinois Environmental Protection Act, as amended, 415 ILCS section 5/22.2a.

Dated: March 13, 2001
William E. Muno,
Director, Superfund Division, Region 5.

[FR Doc. 01-8128 Filed 4-2-01; 8:45 am]

BILLING CODE 6560-50-P